FEDERAL RESERVE SYSTEM

Consumer Advisory Council

ACTION: Notice of Meeting of Consumer Advisory Council

The Consumer Advisory Council will meet on Thursday, June 24, 2004. The meeting, which will be open to public observation, will take place at the Federal Reserve Board's offices in Washington, D.C., in Dining Room E on the Terrace level of the Martin Building. Anyone planning to attend the meeting should, for security purposes, register no later than Tuesday, June 22, by completing the form found on-line at:

https://www.federalreserve.gov/secure/forms/cacregistration.cfm

Additionally, attendees must present photo identification to enter the building.

The meeting will begin at 9:00 a.m. and is expected to conclude at 1:00 p.m. The Martin Building is located on C Street, NW, between 20th and 21st Streets.

The Council's function is to advise the Board on the exercise of the Board's responsibilities under various consumer financial services laws and on other matters on which the Board seeks its advice. Time permitting, the Council will discuss the following topics:

Courtesy Overdraft Protection: Discussion of the proposed rules for bounced check protection programs under Regulation DD (Truth in Savings Act) and interagency guidance for financial institutions.

Foreign Bank Remittances and Access to Financial Services by New Immigrants: Discussion of challenges and opportunities to provide access to U.S. financial services for new immigrants.

Economic Growth and Regulatory Paperwork Reduction Act of 1996: Discussion of views on ways to reduce regulatory compliance burdens consistent with the consumer protections afforded by the rules under various statutes.

Community Reinvestment Act: Discussion of the major aspects of the agencies' proposal to revise the CRA regulations, based on public comment letters received.

Committee Reports: Council committees will report on their work.

Other matters initiated by Council members also may be discussed.

Persons wishing to submit views to the Council on any of the above topics may do so by sending written statements to Ann Bistay, Secretary of the Consumer Advisory Council, Division of Consumer and Community Affairs, Board of Governors of the Federal Reserve System, Washington, D.C. 20551. Information about this meeting may be obtained from Ms. Bistay, 202-452-6470.

Board of Governors of the Federal Reserve System, June 1, 2004.
Robert deV. Frierson
Deputy Secretary of the Board

[FR Doc. 04-12729 Filed 6-4-04; 8:45 am]

BILLING CODE 6210-01-S